DEPARTMENT OF TRANSPORTATION

Federal Aviation Administration

14 CFR Part 39

[Docket No. FAA-2008-0673; Directorate Identifier 2008-NM-117-AD; Amendment 39-15606; AD 2008-14-11]

RIN 2120-AA64

Airworthiness Directives; Boeing Model 777-200, -200LR, -300, and -300ER Series Airplanes Approved for Extended-Range Twin-Engine Operational Performance Standards (ETOPS)

AGENCY: Federal Aviation Administration (FAA), DOT.

ACTION: Final rule; request for comments.

SUMMARY: We are adopting a new airworthiness directive (AD) for certain Boeing Model 777-200, -200LR, -300, and -300ER series airplanes. This AD requires a one-time inspection to determine the part number of the cargo compartment fire suppression filter/regulator. This AD also requires, for certain airplanes, a revision of the “Maximum Diversion Time in Minutes” for ETOPS operation specified in the Operations Specifications. For certain airplanes, this AD also provides for optional replacement of the cargo compartment fire suppression filter/regulator, which would allow revision of the “Maximum Diversion Time in Minutes” for ETOPS operation specified in the Operations Specifications to restore the airplane's full ETOPS capability. This AD results from a report that the filter/regulator installed in the cargo fire suppression system did not meter the Halon for the certified duration during ETOPS flight tests. We are issuing this AD to prevent ETOPS operation with insufficient cargo fire suppression capability, which could result in an uncontained fire in the cargo compartment.

DATES: This AD is effective July 23, 2008.

The Director of the Federal Register approved the incorporation by reference of certain publications listed in this AD as of July 23, 2008.

We must receive comments on this AD by September 8, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Robert Hettman, Aerospace Engineer, Cabin Safety and Environmental Systems Branch, ANM-150S, FAA, Seattle Aircraft Certification Office, 1601 Lind Avenue, SW., Renton, Washington 98057-3356; telephone (425) 917-6457; fax (425) 917-6590.

SUPPLEMENTARY INFORMATION:

Discussion

This AD results from a report that the filter/regulator installed in the cargo fire suppression system did not meter the Halon for the certified duration during extended-range twin-engine operational performance standards (ETOPS) flight tests conducted by Boeing. Results of an investigation by the filter/regulator supplier, Kidde Aerospace, showed that an incorrect test adapter was used during the calibration procedure to set the filter/regulator flow rate. The incorrect test adapter affected the calibrated flow rate setting, allowing the Halon to flow too fast, resulting in less cargo fire suppression duration. It is uncertain how many cargo compartment fire suppression filters/regulators were delivered with the incorrect calibration. To date, we have received no reports of in-service events related to this issue.

ETOPS operation with insufficient cargo fire suppression capability, if not corrected, could result in an uncontained fire in the cargo compartment.

Relevant Service Information

We reviewed Boeing Special Attention Service Bulletin 777-26-0044, dated April 24, 2008; and Revision 1, dated June 19, 2008 (for Model 777-200, -300, and -300ER series airplanes). The service bulletins describe procedures for replacing the fire suppression filter/regulator with a new filter/regulator, which restores the fire suppression capability to the certified duration and allows the operator to resume flights at the airplane's full ETOPS capability.

FAA's Determination and Requirements of This AD

We are issuing this AD because we evaluated all the relevant information and determined the unsafe condition described previously is likely to exist or develop in other products of the(se) same type design(s). This AD requires a one-time inspection to determine the part number of the cargo compartment fire suppression filter/regulator. This AD also requires, for certain airplanes, a revision of the “Maximum Diversion Time in Minutes” for ETOPS operation specified in the Operations Specifications. For certain airplanes, this AD also provides for optional replacement of the cargo compartment fire suppression filter/regulator, which would allow revision of the “Maximum Diversion Time in Minutes” for ETOPS operation specified in the Operations Specifications to restore the airplane's full ETOPS capability.

FAA's Justification and Determination of the Effective Date

An uncontained fire in the cargo compartment, especially during an ETOPS flight where alternate airports may not be available, is a critical safety risk. Because of our requirement to promote safe flight of civil aircraft and thus, the critical need to assure the proper functioning of the fire suppression system in the cargo compartment and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0673; Directorate Identifier 2008-NM-117-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-14-11 Boeing: Amendment 39-15606. Docket No. FAA-2008-0673; Directorate Identifier 2008-NM-117-AD.

Effective Date

(a) This airworthiness directive (AD) is effective July 23, 2008.

Affected ADs

(b) None.

Applicability

(c) This AD applies to Boeing Model 777-200, -200LR, -300, and -300ER series airplanes, certificated in any category; approved for extended-range twin-engine operational performance standards (ETOPS).

Unsafe Condition

(d) This AD results from a report that the filter/regulator installed in the cargo fire suppression system did not meter the Halon for the certified duration during ETOPS flight tests. We are issuing this AD to prevent ETOPS operation with insufficient cargo fire suppression capability, which could result in an uncontained fire in the cargo compartment.

Compliance

(e) Comply with this AD within the compliance times specified, unless already done.

Inspection To Determine Part Number of the Filter/Regulator

(f) Within 30 days after the effective date of this AD, inspect the filter/regulator for the fire suppression system in the lower cargo compartment to determine whether a Kidde Aerospace filter/regulator having a part number identified in Table 1 of this AD is installed. A review of airplane maintenance records is acceptable in lieu of this inspection if the part number of the filter/regulator can be conclusively determined from that review.

Table 1.—Applicable Kidde Aerospace Filters/Regulators
Model | Filter/Regulator Part No.
(1) 777-200 and -200LR series airplanes | 473494-1, -2, or -3; or 473995-1, -2, or -3.
(2) 777-300 and 777-300ER series airplanes | 473857-1, -2, or -3.

Revision of the Operations Specifications

(g) Except as provided in paragraph (i) of this AD, if a Kidde Aerospace cargo compartment fire suppression filter/regulator identified in Table 1 of this AD is found installed during the inspection or records check required by paragraph (f) of this AD: Before further flight after doing the inspection or records check required by paragraph (f) of this AD, revise the “Maximum Diversion Time In Minutes,” specified in the FAA-approved Operations Specifications, Document D086, in accordance with the applicable instructions contained in Boeing Model 777 ETOPS Configuration, Maintenance, and Procedures, Document D044W054, Revision K, dated June 12, 2008.

Optional Replacement of the Filter/Regulator for Certain Airplanes

(h) For Model 777-200, -300, and -300ER series airplanes: Once the cargo compartment fire suppression filter/regulator has been replaced with a new or serviceable filter/regulator in accordance with the Accomplishment Instructions of Boeing Special Attention Service Bulletin 777-26-0044, dated April 24, 2008; or Revision 1, dated June 19, 2008; the “Maximum Diversion Time In Minutes,” specified in the FAA-approved Operations Specifications, Document D086, may be revised in accordance with the applicable instructions contained in Boeing Model 777 ETOPS Configuration, Maintenance, and Procedures, Document D044W054, Revision K, dated June 12, 2008, to restore the airplane's full ETOPS capability.

Exception to Operations Specifications Revision

(i) The revision to the Operations Specifications specified in paragraph (g) of this AD is not required if, before further flight after a Kidde Aerospace cargo compartment fire suppression filter/regulator identified in Table 1 of this AD is found installed on any airplane, the filter/regulator replacement described in paragraph (h) of this AD is accomplished.

Alternative Methods of Compliance (AMOCs)

(j)(1) The Manager, Seattle Aircraft Certification Office (ACO), FAA, ATTN: Robert Hettman, Cabin Safety and Environmental Systems Branch, ANM-150S, 1601 Lind Avenue, SW., Renton, Washington 98057-3356; telephone (425) 917-6457; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(k) You must use Boeing Model 777 ETOPS Configuration, Maintenance, and Procedures, Document D044W054, Revision K, dated June 12, 2008, to do the actions required by this AD, unless the AD specifies otherwise. If you accomplish the optional actions specified by this AD, you must use Boeing Special Attention Service Bulletin 777-26-0044, dated April 24, 2008; or Boeing Special Attention Service Bulletin 777-26-0044, Revision 1, dated June 19, 2008; as applicable; to do those actions, unless the AD specifies otherwise. (The revision date of Boeing Model 777 ETOPS Configuration, Maintenance, and Procedures, Document D044W054, Revision K, is located on the last page of the document; no other page of this document contains the revision date.)

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on June 25, 2008.
Ali Bahrami,
Manager, Transport Airplane Directorate, Aircraft Certification Service.

[FR Doc. E8-15371 Filed 7-7-08; 8:45 am]

BILLING CODE 4910-13-P